DEPARTMENT OF STATE

[Public Notice 4868]

Advisory Committee on International Economic Policy; Notice of Open Meeting

The Advisory Committee on International Economic Policy (ACIEP) will meet from 9 a.m. to 12 p.m. on Monday, November 15, 2004, in Room 1207, U.S. Department of State, 2201 C Street NW., Washington, DC. The meeting will be hosted by Assistant Secretary of State for Economic and Business Affairs E. Anthony Wayne and Committee Chairman R. Michael Gadbaw. Topics for the meeting are (1) a preview of the November 17-21 Asia-Pacific Economic Cooperation Ministerial, CEO Summit and Senior Officials Meeting, and (2) a discussion of issues surrounding the lifting of sanctions regarding Libya. The ACIEP serves the U.S. Government in a solely advisory capacity concerning issues and problems in international economic policy.

This meeting is open to the public as seating capacity allows. Entry to the building is controlled and will be facilitated by advance arrangements. Members of the public planning to attend should provide, by November 9, their name, professional affiliation, social security number (or other identification, such as driver's license), date of birth, and citizenship to Gwendolyn Jackson by fax (202) 647-5936, e-mail (jacksongl@state.gov), or telephone (202) 647-0847.

For additional information, contact Thomas Cunningham, Economic Officer, Office of Economic Policy and Public Diplomacy, Bureau of Economic and Business Affairs, at (202) 647-2534 or cunninghamtr@state.gov.

Dated: October 25, 2004.
Daniel Clune,
Office Director, Office of Economic Policy Analysis and Public Diplomacy, Department of State.

[FR Doc. 04-24327 Filed 10-29-04; 8:45 am]

BILLING CODE 4710-07-P